DEPARTMENT OF JUSTICE

Drug Enforcement Administration

Manufacturer of Controlled Substances; Notice of Registration

By Notice dated November 21, 2006, and published in the Federal Register on December 1, 2006, (71 FR 69593), Noramco Inc., 1440 Olympic Drive, Athens, Georgia 30601, made application by letter to the Drug Enforcement Administration (DEA) to be registered as a bulk manufacturer of Oxymorphone (9652), a basic class of controlled substance listed in schedule II.

The company plans to manufacture for in-house dosage form production and for sales to other dosage form manufacturers.

When the company first submitted their application, the company submitted information to DEA that the firm would be manufacturing Oxymorphone for in-house dosage form production and sales to other dosage form manufacturers. Upon further investigation by the DEA it was uncovered that the company would only be producing bulk material for dosage form manufacturers. DEA will grant this registration for the production of bulk manufacturing of Oxymorphone.

No comments or objections have been received. DEA has considered the factors in 21 U.S.C. 823(a) and determined that the registration of Noramco Inc. to manufacture the listed basic class of controlled substance is consistent with the public interest at this time. DEA has investigated Noramco Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic class of controlled substance listed.

Dated: June 7, 2007.
Joseph T. Rannazzisi,
Deputy Assistant Administrator, Office of Diversion Control, Drug Enforcement Administration.

[FR Doc. E7-11916 Filed 6-19-07; 8:45 am]

BILLING CODE 4410-09-P